DEPARTMENT OF TRANSPORTATION

Federal Motor Carrier Safety Administration

[Docket No. FMCSA-2002-11733]

Notice of Request for Renewal of a Currently-Approved Information Collection: Federal Motor Carrier Safety Regulations, Accident Recordkeeping Requirements

AGENCY: Federal Motor Carrier Safety Administration (FMCSA), DOT.

ACTION: Notice and request for comments.

SUMMARY: In accordance with the Paperwork Reduction Act of 1995, the FMCSA is requesting public comment on its intent to request the Office of Management and Budget (OMB) to renew a currently-approved information collection (IC) for commercial motor vehicle crash (accident) data collected and maintained by motor carriers. The request to renew the IC is necessary since OMB's current approval to collect this information will soon expire on August 31, 2002.

DATES: Comments must be submitted on or before June 4, 2002.

ADDRESSES: Signed, written comments should refer to the docket number that appears at the top of this document and must be submitted to the Docket Clerk, U.S. DOT Dockets, Room PL-401, 400 Seventh Street, SW., Washington, DC 20590-0001. All comments received will be available for examination at the above address between 10 a.m. and 5 p.m., e.t., Monday through Friday, except Federal holidays. Those desiring notification of receipt of comments must include a self-addressed, stamped envelope or postcard.

FOR FURTHER INFORMATION CONTACT: Ms. Deborah M. Freund, Office of Motor Carrier Research and Standards, (202) 366-4009, Department of Transportation, Federal Motor Carrier Safety Administration, 400 Seventh Street, SW., Washington, DC 20590. Office hours are from 7:45 a.m. to 4:15 p.m., e.t. Monday through Friday, except Federal holidays.

SUPPLEMENTARY INFORMATION:

Electronic Availability

You can mail or deliver comments to the U.S. Department of Transportation, Dockets Management Facility, Room PL-401, 400 Seventh Street, SW., Washington, DC 20590-0001. You can also submit comments electronically at http://dms.dot.gov. Please include the docket number that appears in the heading of this document. You can examine and copy this document and all comments received at the same Internet address or at the Dockets Management Facility from 9 a.m. to 5 p.m., e.t. Monday through Friday, except Federal holidays. If you want to know that we received your comments, please include a self-addressed, stamped postcard or include a copy of the acknowledgement page that appears after you submit comments electronically.

Title: Accident Recordkeeping Requirements.

OMB Control Number: 2126-0009 (formerly 2125-0526).

Background: The Federal Motor Carrier Safety Regulations (FMCSRs), at section 390.15 of title 49 of the Code of Federal Regulations (CFR), require motor carriers to make all records and information pertaining to crashes (accidents) available to an authorized representative or special agent of the Federal Motor Carrier Safety Administration (FMCSA) upon request or as part of an inquiry. For the purposes of § 390.15, the word “accident” is defined as an occurrence involving a commercial motor vehicle operating on a public road in interstate or intrastate commerce which results in: (1) A fatality; (2) bodily injury to a person who, as a result of the injury, receives medical treatment away from the scene of the accident; or (3) one or more motor vehicles incurring disabling damage as a result of the accident, requiring the motor vehicle to be transported away from the scene by a tow truck or other motor vehicle (49 CFR 390.5). Occurrences involving only boarding and alighting from a stationary motor vehicle or involving only the loading or unloading of cargo are not included in the definition.

Motor carriers are required to maintain an accident register for one year after the date of the accident. The register must include a list of each accident. The information for each accident must include, at a minimum, the following elements: Date of accident; city or town in which or most near where the accident occurred and the State in which the accident occurred; driver name; number of injuries; number of fatalities; and whether hazardous materials, other than fuel spilled from the fuel tanks of motor vehicles involved in the accident, were released. In addition, the register must contain copies of all accident reports required by State or other governmental entities or insurers.

There are no prescribed forms. The records are used by the FMCSA and its representatives as a source of information for investigations or special studies, and to assess the effectiveness of motor carriers' safety management controls.

Respondents: Motor carriers.

Estimated Total Annual Burden per Record: The FMCSA estimates approximately 155,000 accidents involving trucks and 17,000 accidents involving buses as defined in section 390.5 of the FMCSRs occur annually (source: National Highway Traffic Safety Administration General Estimates System). Of these, approximately 80 percent involve trucks and buses operated by interstate motor carriers. About 85 percent of the buses involved in crashes are school or transit buses and are not subject to this recordkeeping requirement. The number of accidents is therefore estimated to be 126,040 [124,000 (0.80 × 155,000) + 2,040 (0.80 × 0.15 × 17,000) = 126,040].

The agency estimates it takes approximately 18 minutes for interstate motor carriers to collect and record the seven elements of information on the accident register. Based on these assumptions, the agency estimates a time burden of 37,812 hours (126,040 × 18 minutes divided by 60 minutes) per year for accident report register information.

Interested parties are invited to send comments regarding any aspect of these information collections, including, but not limited to: (1) Whether the collection of information is necessary for the proper performance of the functions of the FMCSA, including whether the information has practical utility; (2) the accuracy of the estimated burden; (3) ways to enhance the quality, utility, and clarity of the collected information; and (4) ways to minimize the collection burden without reducing the quality of the collected information.

Authority: The Paperwork Reduction Act of 1995; 44 U.S.C. Chapter 35, as amended; 49 U.S.C. 31132, 31133, 31136, 31502 and 31504; and 49 CFR 1.73.

Issued on: April 1, 2002.
Julie Anna Cirillo,
Acting Deputy Administrator.

[FR Doc. 02-8341 Filed 4-4-02; 8:45 am]

BILLING CODE 4910-EX-P